DEPARTMENT OF ENERGY

Federal Energy Regulatory Commission

Combined Notice of Filings

Take notice that the Commission has received the following Natural Gas Pipeline Rate and Refund Report filings:

Filings Instituting Proceedings

Docket Numbers: RP23-112-000.

Applicants: NEXUS Gas Transmission, LLC.

Description: § 4(d) Rate Filing: Negotiated Rates—DTE Electric 860002 eff 11-1-22 to be effective 11/1/2022.

Filed Date: 10/31/22.

Accession Number: 20221031-5172.

Comment Date: 5 p.m. ET 11/14/22.

Docket Numbers: RP23-113-000.

Applicants: NEXUS Gas Transmission, LLC.

Description: § 4(d) Rate Filing: Negotiated Rates—Union Gas 860007 eff 11-1-22 to be effective 11/1/2022.

Filed Date: 10/31/22.

Accession Number: 20221031-5176.

Comment Date: 5 p.m. ET 11/14/22.

Docket Numbers: RP23-114-000.

Applicants: DBM Pipeline, LLC.

Description: § 4(d) Rate Filing: Revisions to Preliminary Statement and Contract Summaries to be effective 11/1/2022.

Filed Date: 10/31/22.

Accession Number: 20221031-5178.

Comment Date: 5 p.m. ET 11/14/22.

Docket Numbers: RP23-115-000.

Applicants: Texas Eastern Transmission, LP.

Description: § 4(d) Rate Filing: Negotiated Rates—JP Morgan 911865 eff 11-1-22 to be effective 11/1/2022.

Filed Date: 10/31/22.

Accession Number: 20221031-5189.

Comment Date: 5 p.m. ET 11/14/22.

Docket Numbers: RP23-116-000.

Applicants: Destin Pipeline Company, L.L.C.

Description: § 4(d) Rate Filing: Destin Pipeline Negotiated Rate Agreement Filing to be effective 11/1/2022.

Filed Date: 10/31/22.

Accession Number: 20221031-5204.

Comment Date: 5 p.m. ET 11/14/22.

Docket Numbers: RP23-117-000.

Applicants: Rockies Express Pipeline LLC.

Description: § 4(d) Rate Filing: REX 2022-10-31 Negotiated Rate Agreements to be effective 11/1/2022.

Filed Date: 10/31/22.

Accession Number: 20221031-5209.

Comment Date: 5 p.m. ET 11/14/22.

Docket Numbers: RP23-118-000.

Applicants: Trailblazer Pipeline Company LLC.

Description: § 4(d) Rate Filing: TPC 2022-10-31 Negotiated Rate Agreement Amendment to be effective 11/1/2022.

Filed Date: 10/31/22.

Accession Number: 20221031-5211.

Comment Date: 5 p.m. ET 11/14/22.

Docket Numbers: RP23-119-000.

Applicants: Texas Eastern Transmission, LP.

Description: § 4(d) Rate Filing: TETLP ASA DEC 2022 Filing to be effective 12/1/2022.

Filed Date: 10/31/22.

Accession Number: 20221031-5221.

Comment Date: 5 p.m. ET 11/14/22.

Docket Numbers: RP23-120-000.

Applicants: Transcontinental Gas Pipe Line Company, LLC.

Description: § 4(d) Rate Filing: Negotiated Rates—Cherokee AGL—Replacement Shippers—Nov 2022 to be effective 11/1/2022.

Filed Date: 10/31/22.

Accession Number: 20221031-5238.

Comment Date: 5 p.m. ET 11/14/22.

Docket Numbers: RP23-121-000.

Applicants: Texas Eastern Transmission, LP.

Description: § 4(d) Rate Filing: Negotiated Rates—Amended NJN K910185 eff 11-1-22 to be effective 11/1/2022.

Filed Date: 10/31/22.

Accession Number: 20221031-5253.

Comment Date: 5 p.m. ET 11/14/22.

Docket Numbers: RP23-122-000.

Applicants: Maritimes & Northeast Pipeline, L.L.C.

Description: § 4(d) Rate Filing: Negotiated Rates—Northern to Direct to be effective 11/1/2022.

Filed Date: 11/1/22

Accession Number: 20221101-5005.

Comment Date: 5 p.m. ET 11/14/22.

Docket Numbers: RP23-123-000.

Applicants: Carlsbad Gateway, LLC.

Description: Compliance filing: Carlsbad Gateways 2022 Penalty Revenue Crediting Report to be effective N/A.

Filed Date: 11/1/22.

Accession Number: 20221101-5024.

Comment Date: 5 p.m. ET 11/14/22.

Docket Numbers: RP23-124-000.

Applicants: Carlsbad Gateway, LLC.

Description: § 4(d) Rate Filing: Carlsbad Gateway Administration Updates to Tariff to be effective 12/1/2022.

Filed Date: 11/1/22.

Accession Number: 20221101-5025.

Comment Date: 5 p.m. ET 11/14/22.

Docket Numbers: RP23-125-000.

Applicants: Texas Eastern Transmission, LP.

Description: § 4(d) Rate Filing: Negotiated Rates—Various Releases to be effective 11/1/2022.

Filed Date: 11/1/22.

Accession Number: 20221101-5036.

Comment Date: 5 p.m. ET 11/14/22.

Docket Numbers: RP23-126-000.

Applicants: Columbia Gas Transmission, LLC.

Description: § 4(d) Rate Filing: OTRA Winter 2022 to be effective 12/1/2022.

Filed Date: 11/1/22.

Accession Number: 20221101-5068.

Comment Date: 5 p.m. ET 11/14/22.

Docket Numbers: RP23-127-000.

Applicants: Texas Eastern Transmission, LP.

Description: § 4(d) Rate Filing: Negotiated Rates—Amended Nextera K911729 eff 11-1-22 to be effective 11/1/2022.

Filed Date: 11/1/22.

Accession Number: 20221101-5069.

Comment Date: 5 p.m. ET 11/14/22.

Docket Numbers: RP23-128-000.

Applicants: Great Lakes Gas Transmission Limited Partnership.

Description: § 4(d) Rate Filing: TCPL—18966_7 Neg. Rate Amendment to be effective 11/1/2022.

Filed Date: 11/1/22.

Accession Number: 20221101-5070.

Comment Date: 5 p.m. ET 11/14/22.

Docket Numbers: RP23-129-000.

Applicants: Alliance Pipeline L.P.

Description: § 4(d) Rate Filing: Negotiated Rates—Various Nov 1 2022 Contract Adjustments to be effective 11/1/2022.

Filed Date: 11/1/22.

Accession Number: 20221101-5073.

Comment Date: 5 p.m. ET 11/14/22.

Docket Numbers: RP23-130-000.

Applicants: Alliance Pipeline L.P.

Description: § 4(d) Rate Filing: Negotiated Rates—Various Nov 1 2022 Releases to be effective 11/1/2022.

Filed Date: 11/1/22.

Accession Number: 20221101-5074.

Comment Date: 5 p.m. ET 11/14/22.

Docket Numbers: RP23-131-000.

Applicants: Natural Gas Pipeline Company of America LLC.

Description: § 4(d) Rate Filing: Filing to Remove Expired Agreements November 2022 to be effective 12/1/2022.

Filed Date: 11/1/22.

Accession Number: 20221101-5075.

Comment Date: 5 p.m. ET 11/14/22.

Docket Numbers: RP23-132-000.

Applicants: Enable Mississippi River Transmission, LLC.

Description: Compliance filing: 2022 Annual Report of Penalty Revenue Credits to be effective N/A.

Filed Date: 11/1/22.

Accession Number: 20221101-5079.

Comment Date: 5 p.m. ET 11/14/22.

Docket Numbers: RP23-133-000.

Applicants: Enable Gas Transmission, LLC.

Description: Compliance filing: 2022 Annual Report of Penalty Revenue Credits to be effective N/A.

Filed Date: 11/1/22.

Accession Number: 20221101-5081.

Comment Date: 5 p.m. ET 11/14/22.

Docket Numbers: RP23-134-000.

Applicants: Enable Gas Transmission, LLC.

Description: Compliance filing: 2022 Annual Report of Linked Firm Service Penalty Revenue Credits to be effective N/A.

Filed Date: 11/1/22.

Accession Number: 20221101-5084.

Comment Date: 5 p.m. ET 11/14/22.

Docket Numbers: RP23-135-000.

Applicants: Texas Eastern Transmission, LP.

Description: § 4(d) Rate Filing: Negotiated Rates—Bug Co Nat 911814 Releases 11-1-2022 to be effective 11/1/2022.

Filed Date: 11/1/22.

Accession Number: 20221101-5085.

Comment Date: 5 p.m. ET 11/14/22.

Docket Numbers: RP23-136-000.

Applicants: Rover Pipeline LLC.

Description: § 4(d) Rate Filing: Summary of Negotiated Rate Capacity Release Agreements on 11-1-22 to be effective 11/1/2022.

Filed Date: 11/1/22.

Accession Number: 20221101-5086.

Comment Date: 5 p.m. ET 11/14/22.

Docket Numbers: RP23-137-000.

Applicants: Texas Eastern Transmission, LP.

Description: § 4(d) Rate Filing: Negotiated Rates—Keyspan Gas 8978785 eff 11-1-2022 to be effective 11/1/2022.

Filed Date: 11/1/22.

Accession Number: 20221101-5087.

Comment Date: 5 p.m. ET 11/14/22.

Docket Numbers: RP23-138-000.

Applicants: NEXUS Gas Transmission, LLC.

Description: § 4(d) Rate Filing: Negotiated Rates—Various Releases eff 11-1-2022 to be effective 11/1/2022.

Filed Date: 11/1/22.

Accession Number: 20221101-5095.

Comment Date: 5 p.m. ET 11/14/22.

Docket Numbers: RP23-139-000.

Applicants: Texas Eastern Transmission, LP.

Description: § 4(d) Rate Filing: Negotiated Rates—Con Ed 911792 Releases 11-1-2022 to be effective 11/1/2022.

Filed Date: 11/1/22.

Accession Number: 20221101-5098.

Comment Date: 5 p.m. ET 11/14/22.

Docket Numbers: RP23-140-000.

Applicants: Texas Eastern Transmission, LP.

Description: § 4(d) Rate Filing: Negotiated Rates—Con Ed 910950 Releases 11-1-2022 to be effective 11/1/2022.

Filed Date: 11/1/22.

Accession Number: 20221101-5100.

Comment Date: 5 p.m. ET 11/14/22.

Docket Numbers: RP23-141-000.

Applicants: Algonquin Gas Transmission, LLC.

Description: § 4(d) Rate Filing: Negotiated Rates—Con Ed Releases 510371 11-1-2022 to be effective 11/1/2022.

Filed Date: 11/1/22.

Accession Number: 20221101-5104.

Comment Date: 5 p.m. ET 11/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2022.
Debbie-Anne A. Reese,
Deputy Secretary.

[FR Doc. 2022-24238 Filed 11-4-22; 8:45 am]

BILLING CODE 6717-01-P